DEPARTMENT OF COMMERCE

International Trade Administration

[A-588-869]

Diffusion-Annealed, Nickel-Plated Flat-Rolled Steel Products From Japan: Preliminary Results of Antidumping Duty Administrative Review, Preliminary Determination of No Shipments; 2015-2016

AGENCY: Enforcement and Compliance, International Trade Administration, Department of Commerce.

SUMMARY: The Department of Commerce (the Department) is conducting an administrative review of the antidumping duty order on diffusion-annealed, nickel-plated flat-rolled steel products (certain nickel-plated, flat-rolled steel) from Japan.¹ The period of review (POR) is May 1, 2015, through April 30, 2016. The review covers two producers/exporters of the subject merchandise, Toyo Kohan Co., Ltd. (Toyo Kohan) and Nippon Steel & Sumitomo Metals Corporation (NSSMC). We preliminarily determine that sales of subject merchandise by Toyo Kohan were made at less than normal value during the POR. We also preliminarily determine that NSSMC did not have reviewable entries during the POR. Interested parties are invited to comment on these preliminary results.

¹ See Initiation of Antidumping and Countervailing Duty Administrative Reviews, 81 FR 44260 (July 7, 2016) (Initiation Notice).

DATES: Effective June 6, 2017.

FOR FURTHER INFORMATION CONTACT: Brian Davis, AD/CVD Operations, Office VI, Enforcement and Compliance, International Trade Administration, U.S. Department of Commerce, 1401 Constitution Avenue NW., Washington, DC 20230; telephone: (202) 482-7924, respectively.

SUPPLEMENTARY INFORMATION:

Background

On May 2, 2016, the Department published a notice of opportunity to request an administrative review of the antidumping duty order on certain nickel-plated, flat-rolled steel from Japan.² On May 11, 2016, respondent Toyo Kohan requested that the Department conduct an administrative review of its sale and shipments to the United States during the POR.³ On May 31, 2016, the petitioner, Thomas Steel Strip Corporation (Thomas Steel), requested that the Department conduct administrative reviews of Toyo Kohan and NSSMC.⁴ On July 7, 2016, in response to these timely requests, and in accordance with section 751(a) of the Tariff Act of 1930, as amended (the Act) and 19 CFR 351.221(c)(1)(i), the Department initiated an administrative review of the antidumping duty order on certain nickel-plated, flat-rolled steel from Japan with respect to both Toyo Kohan and NSSMC.⁵

² See Antidumping or Countervailing Duty Order, Finding, or Suspended Investigation; Opportunity to Request Administrative Review, 81 FR 26206 (May 2, 2016).

³ See Letter from Toyo Kohan to the Department regarding “Toyo Kohan's Request for Antidumping Administrative Review, Diffusion-Annealed Nickel-Plated Flat-Rolled Steel Products from Japan,” dated May 11, 2016.

⁴ See Letter from Thomas Steel to the Department regarding “Diffusion-Annealed Nickel-Plated Flat-Rolled Steel from Japan: Request for Second Administrative Review of Antidumping Order,” dated May 31, 2016.

⁵ See Initiation Notice, 81 FR at 44262.

Scope of the Order

The diffusion-annealed, nickel-plated flat-rolled steel products included in this order are flat-rolled, cold-reduced steel products, regardless of chemistry; whether or not in coils; either plated or coated with nickel or nickel-based alloys and subsequently annealed (i.e., “diffusion-annealed”); whether or not painted, varnished or coated with plastics or other metallic or nonmetallic substances; and less than or equal to 2.0 mm in nominal thickness. For purposes of this order, “nickel-based alloys” include all nickel alloys with other metals in which nickel accounts for at least 80 percent of the alloy by volume.

Imports of merchandise included in the scope of this order are classified primarily under Harmonized Tariff Schedule of the United States (HTSUS) subheadings 7212.50.0000 and 7210.90.6000, but may also be classified under HTSUS subheadings 7210.70.6090, 7212.40.1000, 7212.40.5000, 7219.90.0020, 7219.90.0025, 7219.90.0060, 7219.90.0080, 7220.90.0010, 7220.90.0015, 7225.99.0090, or 7226.99.0180. The foregoing HTSUS subheadings are provided only for convenience and customs purposes. The written description of the scope of this order is dispositive.

Preliminary Determination of No Shipments

Subsequent to the initiation of this administrative review, the Department received a timely submission from NSSMC certifying that it did not have sales, shipments, or exports of subject merchandise to the United States during the POR.⁶ To confirm NSSMC's no shipment claim, the Department issued a no-shipment inquiry to U.S. Customs and Border Protection (CBP) requesting that it review NSSMC's no-shipment claim.⁷ CBP did not report that it had any information to contradict NSSMC's claim of no shipments during the POR.⁸ Therefore, we preliminarily determine that NSSMC had no shipments to the United States, and therefore, no reviewable entries, during the POR. In addition, we find it is not appropriate to rescind the review with respect to NSSMC, but, rather to complete the review and issue appropriate instructions to CBP based on the final results of the review, consistent with our practice.⁹

⁶ See Letter from NSSMC to the Department regarding “Diffusion-Annealed Nickel-Plated Flat-Rolled Steel Products from Japan: Certification on No U.S. Sales During Administrative Review Period,” dated August 5, 2016 and Letter from NSSMC to the Department regarding “Diffusion-Annealed Nickel-Plated Flat-Rolled Steel Products from Japan: Response to July 25, 2016 Department Questionnaire,” dated August 10, 2016.

⁷ See the Memorandum to the File from Dena Crossland, “Diffusion-Annealed, Nickel-Plated Flat-Rolled Steel Products from Japan: No Shipments During the Period of Review from Nippon Steel & Sumitomo Metals Corporation,” dated May 11, 2017.

⁸ Id.

⁹ See e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014).

Methodology

The Department is conducting this review in accordance with section 751(a)(2) of the Act. For Toyo Kohan, export price is calculated in accordance with section 772 of the Act. Normal value is calculated in accordance with section 773 of the Act. For a full description of the methodology underlying our conclusions, see the memorandum from Gary Taverman, Deputy Assistant Secretary for AD/CVD Operations, to Ronald K. Lorentzen, Acting Assistant Secretary for Enforcement and Compliance, titled “Decision Memorandum for Preliminary Results of Antidumping Duty Administrative Review: Diffusion-Annealed, Nickel-Plated Flat-Rolled Steel Products (Certain Nickel-Plated, Flat-Rolled Steel) from Japan; 2015-2016” (Preliminary Decision Memorandum), which is issued concurrent with and hereby adopted by this notice.

The Preliminary Decision Memorandum is a public document and is on file electronically via Enforcement and Compliance's Antidumping and Countervailing Duty Centralized Electronic Service System (ACCESS). Access to ACCESS is available to registered users at http://access.trade.gov and is available to all parties in the Central Records Unit, Room B8024 of the main Department of Commerce building. In addition, a complete version of the Preliminary Decision Memorandum can be accessed directly on the Internet at http://enforcement.trade.gov/frn/index.html. A list of topics discussed in the Preliminary Decision Memorandum is attached as an Appendix to this notice. The signed Preliminary Decision Memorandum and the electronic versions of the Preliminary Decision Memorandum are identical in content.

Preliminary Results of Review

We preliminarily determine that, for the period May 1, 2015, through April 30, 2016, the following dumping margin exists:

Manufacturer/exporter | Weighted- average margin (percent)
Toyo Kohan Co., Ltd. | 1.42

Disclosure and Public Comment

The Department will disclose to parties to the proceeding any calculations performed in connection with these preliminary results of review within five days after the date of publication of this notice.¹⁰ Interested parties may submit case briefs to the Department in response to these preliminary results no later than 30 days after the publication of these preliminary results.¹¹ Rebuttal briefs, the content of which is limited to the issues raised in the case briefs, must be filed within five days from the deadline date for the submission of case briefs.¹²

¹⁰ See 19 CFR 351.224(b)

¹¹ See 19 CFR 351.309(c)(1)(ii).

¹² See 19 CFR 351.309(d)(1) and (2).

Parties who submit arguments in this proceeding are requested to submit with each argument: (1) A statement of the issue; (2) a brief summary of the argument; and (3) a table of authorities.¹³ Executive summaries should be limited to five pages total, including footnotes. Case and rebuttal briefs should be filed using ACCESS.¹⁴ In order to be properly filed, ACCESS must successfully receive an electronically-filed document in its entirety by 5 p.m. Eastern Time. Case and rebuttal briefs must be served on interested parties.¹⁵

¹³ See 19 CFR 351.309(c)(2) and (d)(2).

¹⁴ See generally 19 CFR 351.303.

¹⁵ See 19 CFR 351.303(f).

Within 30 days of the date of publication of this notice, interested parties may request a public hearing on arguments raised in the case and rebuttal briefs.¹⁶ Unless the Department specifies otherwise, the hearing, if requested, will be held two days after the date for submission of rebuttal briefs.¹⁷ Hearing requests should be electronically submitted to the Department via ACCESS.¹⁸ The Department's electronic records system, ACCESS, must successfully receive an electronically-filed document in its entirety by 5:00 p.m. Eastern Time within 30 days after the date of publication of this notice. Requests should contain: (1) The party's name, address, and telephone number; (2) the number of participants; and (3) a list of issues to be discussed. Issues raised in the hearing will be limited to those raised in the respective case and rebuttal briefs.¹⁹ Parties will be notified of the time and location of the hearing.

¹⁶ See 19 CFR 351.310(c).

¹⁷ See 19 CFR 351.310(d)(1).

¹⁸ See generally, 19 CFR 351.303.

¹⁹ See 19 CFR 351.310(c).

The Department intends to publish the final results of this administrative review, including the results of its analysis of issues addressed in any case or rebuttal brief, no later than 120 days after publication of the preliminary results, unless extended.²⁰

²⁰ See section 751(a)(3)(A) of the Act; 19 CFR 351.213(h).

Assessment Rates

Upon completion of this administrative review, the Department shall determine, and CBP shall assess, antidumping duties on all appropriate entries.²¹ If Toyo Kohan's weighted-average dumping margin is not zero or de minimis in the final results of this review, we will calculate importer-specific assessment rates on the basis of the ratio of the total amount of antidumping duties calculated for an importer's examined sales and the total entered value of such sales in accordance with 19 CFR 351.212(b)(1). If Toyo Kohan's weighted-average dumping margin is zero or de minimis in the final results of review, we will instruct CBP not to assess duties on any of its entries in accordance with the Final Modification for Reviews, i.e., “{w}here the weighted-average margin of dumping for the exporter is determined to be zero or de minimis, no antidumping duties will be assessed.” ²² The final results of this review shall be the basis for the assessment of antidumping duties on entries of merchandise covered by the final results of this review and for future deposits of estimated duties, where applicable.

²¹ See 19 CFR 351.212(b)(1).

²² See Antidumping Proceedings: Calculation of the Weighted-Average Dumping Margin and Assessment Rate in Certain Antidumping Proceedings: Final Modification, 77 FR 8101, 8102 (February 14, 2012) (Final Modification for Reviews).

For entries of subject merchandise during the POR produced by Toyo Kohan for which it did not know its merchandise was destined for the United States, we will instruct CBP to liquidate unreviewed entries at the all-others rate if there is no rate for intermediate company(ies) involved in the transaction.²³ In addition, if the Department determines that NSSMC had no shipments of subject merchandise, any suspended entries that entered under NSSMC's case number will be liquidated at the all-other's rate.²⁴ The all-others rate is 45.42 percent.²⁵ We intend to issue liquidation instructions to CBP 15 days after publication of the final results of this review.

²³ See Antidumping and Countervailing Duty Proceedings: Assessment of Antidumping Duties, 68 FR 23954 (May 6, 2003).

²⁴ Id.

²⁵ See Diffusion-Annealed, Nickel-Plated Flat-Rolled Steel Products from Japan: Antidumping Duty Order, 79 FR 30816, 30817 (May 29, 2014) (Order).

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for Toyo Kohan will be that established in the final results of this administrative review (except, if the rate is zero or de minimis, no cash deposit will be required); (2) for merchandise exported by manufacturers or exporters not covered in this review but covered in a prior segment of this proceeding, the cash deposit rate will continue to be the company-specific rate published for the most recent period; (3) if the exporter is not a firm covered in this review, a prior review, or in the less-than-fair value investigation but the manufacturer is, the cash deposit rate will be the rate established for the most recent period for the manufacturer of the merchandise; and (4) the cash deposit rate for all other manufacturers or exporters will continue to be the all-others rate of 45.42 percent, which is the all-others rate established in the investigation.²⁶ These cash deposit requirements, when imposed, shall remain in effect until further notice.

²⁶ See Order, 79 FR at 30817.

Notification to Importers

This notice also serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing this notice in accordance with sections 751(a)(1) and 777(i)(1) of the Act and 19 CFR 351.213(h)(1).

Dated: May 30, 2017.
Ronald K. Lorentzen,
Acting Assistant Secretary for Enforcement and Compliance.

Appendix I

List of Topics Discussed in the Preliminary Decision Memorandum

I. Summary

II. Background

III. Scope of the Order

IV. Preliminary Finding of No Shipments

V. Comparisons to Normal Value

VI. Product Comparisons

VII. Discussion of Methodology

A. Determination of Comparison Method

B. Results of the Differential Pricing Analysis

C. Date of Sale

D. Export Price

E. Normal Value

1. Home Market Viability

2. Level of Trade

3. Sales to Affiliated Customers

4. Cost of Production Analysis

5. Cost of Production Test

6. Calculation of Normal Value Based on Comparison Market Prices

7. Price-to-Constructed Value Comparisons

8. Constructed Value

F. Currency Conversion

VIII. Recommendation

[FR Doc. 2017-11672 Filed 6-5-17; 8:45 am]

BILLING CODE 3510-DS-P